DEPARTMENT OF AGRICULTURE

Agricultural Marketing Service

7 CFR Part 1260

[No. LS-07-03]

Cattlemen's Beef Promotion and Research Program; Section 610 Review

AGENCY: Agricultural Marketing Service, USDA.

ACTION: Notice of review and request for comments.

SUMMARY: This action announces the Agricultural Marketing Service's (AMS) review of the Cattlemen's Beef Promotion and Research Program, which is conducted under the Beef Promotion and Research Order (Order), under the criteria contained in section 610 of the Regulatory Flexibility Act (RFA).

DATES: Written comments on this notice must be received by March 19, 2007.

ADDRESSES: Interested persons are invited to submit written comments concerning this notice of review. Comments must be sent to Kenneth R. Payne, Chief, Marketing Programs, Livestock and Seed Program, AMS, USDA, Room 2628-S, STOP 0251, 1400 Independence Avenue, SW., Washington, DC 20250-0251; Fax: (202) 720-1125; via e-mail at beefcomments@usda.gov or online at www.regulations.gov. All comments should reference the docket number, the date, and the page number of this issue of the Federal Register. Comments will be available for public inspection via the Internet at http://www.ams.usda.gov/lsg/mpb/rp-beef.htm or during regular business hours.

FOR FURTHER INFORMATION CONTACT: Kenneth R. Payne, Chief, Marketing Programs Branch, Livestock and Seed Program, AMS, USDA, Room 2628-S, STOP 0251, 1400 Independence Avenue, SW., Washington, DC 20250-0251 or e-mail Kenneth.Payne@usda.gov.

SUPPLEMENTARY INFORMATION: The Order (7 CFR part 1260) is authorized under the Beef Promotion and Research Act of 1985 (Act) (7 U.S.C. 2901 et seq.). This program is a national beef program for beef and beef product promotion, research, consumer information, and industry information as part of a comprehensive strategy to strengthen the beef industry's position in the marketplace by maintaining and expanding existing domestic and foreign markets and by developing new markets for beef and beef products. The program is funded by a mandatory assessment of $1-per-head, collected each time cattle are sold. All producers owning and marketing cattle, regardless of the size of their operation or the value of their cattle, must pay the assessment. A comparable assessment is collected on all imported cattle, beef, and beef products. Assessments collected under this program are used for promotion, research, consumer information, and industry information.

The national program is administered by the Cattlemen's Beef Board (Board), which has 104 producer and importer members. Board members serve 3-year terms, but no individual may serve more than two consecutive 3-year terms. Producer members represent 35 States and 4 geographic units. The program became effective on July 18, 1986, when the Order was issued. Assessments began on October 1, 1986.

On February 18, 1999, AMS published in the Federal Register (64 FR 8014) its plan to review certain regulations. On January 4, 2002, AMS published in the Federal Register (67 FR 525) an update to its plan to review regulations, including the Cattlemen's Beef Promotion and Research Program, which is conducted under the Order, under criteria contained in section 610 of the RFA (5 U.S.C. 601-612). Because many AMS regulations impact small entities, AMS decided, as a matter of policy, to review certain regulations that, although may not meet the threshold requirement under section 610 of the RFA, warrant review. Accordingly, this notice and request for comments is made for the Order.

The purpose of the review is to determine whether the Order should continue without change or whether it should be amended or rescinded (consistent with the objectives of the Act) to minimize the impact on small entities. AMS will consider the following factors: (1) The continued need for the Order; (2) The nature of complaints or comments received from the public concerning the Order; (3) the complexity of the Order; (4) the extent to which the Order overlaps, duplicates, or conflicts with other Federal rules, and, to the extent feasible, with State and local governmental rules; and (5) the length of time since the Order has been evaluated or the degree to which technology, economic conditions, or other factors have changed in the area affected by the Order.

Written comments, views, opinions, and other information regarding the Order's impact on small businesses are invited.

Authority: 7 U.S.C. 2901-2918.

Dated: January 10, 2007.
Lloyd C. Day,
Administrator, Agricultural Marketing Service.

[FR Doc. E7-598 Filed 1-17-07; 8:45 am]

BILLING CODE 3410-02-P